DEPARTMENT OF TRANSPORTATION

Federal Transit Administration

Environmental Impact Statement for the San Francisco Transbay Terminal and Caltrain Downtown Extension Project in San Francisco, CA

AGENCY: Federal Transit Administration, Department of Transportation.

ACTION: Notice of Intent to prepare an Environmental Impact Statement.

SUMMARY: The Federal Transit Administration (FTA), in cooperation with the Peninsula Corridor Joint Powers Board (JPB), the City and County of San Francisco, and the San Francisco Redevelopment Agency will prepare a joint Environmental Impact Statement/Environmental Impact Report (EIS/EIR) for the San Francisco Transbay Terminal and Caltrain Downtown Extension Project in accordance with the National Environmental Policy Act (NEPA) and the California Environmental Quality Act (CEQA). The EIS/EIR will address alternatives for: (1) A new, multi-modal transportation facility at the site of the current Transbay Terminal at First and Mission Streets, and (2) an extension of Caltrain commuter rail service from its current San Francisco terminus at 4th and Townsend to the new Transbay Terminal along with establishment of a redevelopment area and development of a mix of new transit-oriented uses on publicly-owned property in the vicinity of the new terminal to help defray project costs. Other project features include: an off-site bus storage facility, new bus ramps connecting to the Bay Bridge, construction and operation of a temporary bus facility for the construction period, and a reconfigured Caltrain layover yard. The EIS/EIR will evaluate the following alternatives: (1) A No-Build Alternative, (2) a Build Alternative with design options, and (3) any additional reasonable alternatives that emerge from the scoping process.

Previous studies relevant to this action include: the recently completed Transbay Terminal Study (Metropolitan Transportation Commission, 2001); associated technical reports regarding such subjects as Transbay Terminal design options, joint development options, and terminal operations; and the original Draft Environmental Impact Statement/Draft Environmental Impact Report (DEIS/DEIR) for the Caltrain San Francisco Downtown Extension Project (FTA-U.S. DOT/Peninsula Corridor Joint Powers Board, 1997). Although the 1997 DEIS/DEIR contributed to the planning history of the proposed project, this new EIS/EIR will completely replace the 1997 document.

Scoping will be accomplished through meetings and correspondence with interested persons, organizations, the general public, and federal, state, and local agencies. Letters describing the proposed action and soliciting comments have been sent to the appropriate federal, state, and local agencies, and to private organizations and citizens who have expressed or are known to have interest in this proposal.

DATES: Comment Due Date—Written comments on the scope of alternatives and impacts to be considered must be postmarked no later than April 18, 2001 and should be sent to the San Francisco Planning Department at the address below. Scoping Meetings—Two public scoping meetings will be held: April 4, from 6 until 8 p.m. at the San Francisco City Hall, Room 400, 1 Dr. Carlton B. Goodlett, Jr. Place, San Francisco, California 94102; and April 11, from 6 until 8 pm at the Peninsula Corridor Joint Powers Board, 2nd Floor Auditorium, 1250 San Carlos Avenue, San Carlos, California 94070. The first hour (6-7 p.m.) will be an open house. A brief presentation of the project purpose and alternatives will be provided at 7 p.m., and project staff will be present to receive formal agency and public input regarding the scope of the environmental studies, key issues, and other suggestions.

ADDRESSES: Written comments should be sent to Joan Kugler, AICP, EIR Project Manager, San Francisco Planning Department, 1660 Mission Street, Suite 500, San Francisco, CA 94103-2414. The addresses for the scoping meetings are given above in the DATES section.

FOR FURTHER INFORMATION CONTACT: Jerome Wiggins, Federal Transit Administration, Office of Program Development at (415) 744-3116.

SUPPLEMENTARY INFORMATION: The proposed project is located in the central business district of the City of San Francisco in the South of Market Area. The project area includes the existing Transbay Terminal (built in 1939) generally located between Mission and Natoma and Beale and Second Streets. The New Transbay Terminal is proposed to be constructed at the same site as the existing Terminal it would replace. The project includes the proposed underground right-of-way linking the existing Caltrain Terminal at 4th and Townsend to the new proposed terminal. Development, including transit-oriented development, is proposed for parcels under public ownership within the boundaries of the proposed Redevelopment Plan Area.

Purpose and Need of Proposed Action: The primary objectives of the San Francisco Transbay Terminal and Caltrain Downtown Extension Project include: improving public access to bus and rail services; modernizing the Transbay Terminal and improving service; reducing non-transit vehicle usage; and revitalizing the Transbay Terminal area.

• Improve public access to bus and rail services: A multi-modal transportation facility would provide a centralized location for bus (AC Transit, MUNI, Golden Gate, SamTrans, Greyhound), paratransit, and rail (Caltrain) services in San Francisco's growing Financial District/South of Market Area and would enhance transit access for passengers arriving in and departing San Francisco. The extension of the Caltrain system from its current terminus at 4th and Townsend to a new Transbay Terminal at First and Missions Streets would improve access for residents and workers in San Francisco's high-density financial district and improve connections to other local and regional transit providers. Additionally, a multi-modal terminal facility and Caltrain extension would facilitate future expansion of regional express train service and potential statewide high-speed rail service.

• Modernize the Transbay Terminal and improve service: The Metropolitan Transportation Commission (MTC), State of California, City of San Francisco, and area transit providers (AC Transit, MUNI, Golden Gate, SamTrans, and JPB) have evaluated options for replacement of the 1939 Transbay Terminal facility, due to its age, need for seismic upgrade, and inadequate facility layout. A properly designed, new terminal would improve space utilization, passenger circulation, signage, security, safety, and the overall transit-rider experience.

• Reduce non-transit vehicle usage: Provision of a multi-modal transportation facility would increase transit ridership, thus reducing the number of non-transit vehicles traveling on area streets, highways, and bridges. Reduction in automobile vehicle miles of travel would result in reduced vehicular air emissions and an improvement in air quality.

• Revitalize the Transbay Terminal area: The current Transbay Terminal and associated ramps and the now-removed Embarcadero Freeway contributed to deterioration and underutilization of land in the Transbay Terminal area. An opportunity exists to provide for more efficient and enhanced use of land in the area, including provision of transit-oriented development and badly needed housing.

Alternatives: Alternatives to be reviewed in the EIS/EIR include a No-Project Alternative, a Build Alternative, and any additional reasonable alternatives that emerge from the scoping process. Design options will be evaluated for the Build Alternative. The No-Project Alternative assumes a 2020 baseline condition of programmed land use, low-capital-cost transportation improvements, and a seismic retrofit of the existing Transbay Terminal. The Build Alternative includes the following elements: (1) A new Transbay Terminal, (2) extension of Caltrain service into or near the basement of the new Terminal, (3) related development of publicly-owned properties in the vicinity of the Transbay Terminal, and (4) adoption of a redevelopment plan for a portion of the terminal vicinity.

A new Transbay Terminal would consist of an approximate 600,000 square-foot multi-modal transit facility with 50 bus bays on two levels served by ramps directly connected to the Bay Bridge. The basement would accommodate train platforms and tracks. The facility would include transit passenger service areas and an estimated 150,000-225,000 square feet of retail, entertainment, conference, educational, and cultural space. During MTC's Transbay Terminal Study, this concept (known as “Great Expectations”) was adopted by the Transbay Panel and Bay Area Toll Authority (BATA) following a review of multiple design options.

Two preliminary design options are proposed for the Caltrain Downtown Extension. Key criteria used in developing the two design options include: (1) Ability to provide efficient and effective rail operations and accommodate high-speed rail, (2) potential impacts to land use and proposed developments, (3) potential for a future rail connection to the East Bay, (4) relationship of rail services to Transbay Terminal and transit operations, and (5) anticipated community impacts. Option 1 for the Caltrain Extension would follow the 1997 DEIS/DEIR “long-radius, short mined tunnel” alignment from 4th and Townsend to Essex Street. From there, the alignment would continue northward underground as cut-and-cover construction to a station generally oriented north-south, terminating at Minna Street just to the west of the new Transbay Terminal. Option 2 for the Caltrain Extension would curve northeasterly from Townsend Street to a cut-and-cover alignment under Second Street. As the alignment approaches Howard Street, it would curve eastward into the basement of the new Transbay Terminal. This option includes additional tracks in a cut-and-cover section passing through the east end of the new Terminal and curving south under Main Street. This track would be used for temporary train storage and could ultimately be extended as a San Francisco to Oakland cross-bay alignment.

Development of publicly-owned property along in the vicinity of the Transbay Terminal, including transit-oriented uses would enhance the Transbay Terminal area. Revenues or tax increments could be used to defray a portion of the costs for the new Transbay Terminal and Caltrain downtown extension. Two development scenarios will be evaluated in the EIS/EIR. The “full build” development scenario assumes about 7.7 million square feet of residential/office/retail/hotel development, including approximately 4,500 residential units (including affordable housing), 1.1 million square feet of office, 400,000 square feet of retail, and 475,000 square feet of hotel. A “reduced scope” development scenario that assumes a lesser amount of commercial and retail development and that is weighted toward housing will also be evaluated.

The adoption of a redevelopment plan for a portion of the terminal vicinity in the area between Mission, Main, Folsom, and Second streets is proposed to allow City assistance in the revitalization and enhancement of the Transbay Terminal area.

Probable Effects: The Build Alternative is expected to increase bus and rail transit ridership and improve the overall character of the Transbay Terminal area. Environmental impacts are anticipated in the following areas: visual and aesthetic, air emissions (related to development), traffic, transit operations, pedestrian and bicycle operations, noise, vibration, impacts to historic and cultural resources, property acquisitions, impacts of pre-existing hazardous wastes, and temporary construction-phase impacts. Mitigation measures will be identified and explored for avoiding and reducing adverse effects.

To ensure that the full range of issues related to this proposed action is addressed and all significant issues identified, comments and suggestions are invited from all interested parties. Comments or questions concerning this proposed action and the EIS/EIR should be directed to the San Francisco Planning Department's EIR Project Manager at the address provided above.

Issued on: March 21, 2001.
Leslie Rogers,
FTA Region IX Administrator.

[FR Doc. 01-7615 Filed 3-27-01; 8:45 am]

BILLING CODE 4910-57-P